DEPARTMENT OF LABOR

Mine Safety and Health Administration

Brookwood-Sago Mine Safety Grants

AGENCY: Mine Safety and Health Administration, Labor.

ACTION: Notice, change in the grant application deadline.

SUMMARY: On June 29, 2009, the U.S. Department of Labor, Mine Safety and Health Administration (MSHA), announced it was making $500,000 available in grant funds for educational and training programs to help identify, avoid, and prevent unsafe working conditions in and around mines. 74 FR 31049-31051. This notice advised that the solicitation for grant applications would be available June 30, 2009, on the Grants.gov Web site. The closing date for receipt of the grant applications was July 31, 2009. Because of administrative limitations associated with the Grants.gov Web site, MSHA is extending the deadline for receipt of grant applications for the Brookwood-Sago Mine Safety Grants to August 1, 2009.

DATES: The closing date for submitting grant applications will be August 1, 2009 (no later than 11:59 p.m. EDST). MSHA will award grants on or before September 30, 2009.

ADDRESSES: Applications for grants submitted under this competition must be submitted electronically using the Government-wide site at http://www.grants.gov. If applying online poses a hardship to any applicant, the MSHA Directorate of Educational Policy and Development will provide assistance to ensure that applications can be submitted online by the closing date. MSHA's Web page at http://www.msha.gov is a valuable source of background information on Brookwood-Sago Safety Grants.

FOR FURTHER INFORMATION CONTACT: Any questions regarding this solicitation for grant applications (SGA 09-3BS) should be directed to Robert Glatter at glatter.robert@dol.gov or at 202-693-9570 (this is not a toll-free number) or the Grant Officer, Darrell A. Cooper at cooper.darrell@dol.gov or at 202-693-9831 (this is not a toll-free number).

Authority: 30 U.S.C. 965.

Michael A. Davis,
Deputy Assistant Secretary for Operations, Mine Safety and Health.

[FR Doc. E9-17487 Filed 7-22-09; 8:45 am]

BILLING CODE 4510-43-P